DEPARTMENT OF ENERGY

Federal Energy Regulatory Commission

Combined Notice of Filings #1

Take notice that the commission received the following accounting Request filings:

Docket Numbers: AC25-26-000.

Applicants: Wisconsin Power and Light Company.

Description: Wisconsin Power and Light Company, et al. submits Supplement to the 11/27/2024 proposed accounting entries re transaction with Wisconsin Electric Power Company in Docket No. EC24-30-000.

Filed Date: 2/19/25.

Accession Number: 20250219-5092.

Comment Date: 5 p.m. ET 3/12/25.

Take notice that the Commission received the following exempt wholesale generator filings:

Docket Numbers: EG25-167-000.

Applicants: Osagrove Flats Wind, LLC.

Description: Osagrove Flats Wind, LLC submits Notice of Self-Certification of Exempt Wholesale Generator Status.

Filed Date: 2/24/25.

Accession Number: 20250224-5189.

Comment Date: 5 p.m. ET 3/17/25.

Docket Numbers: EG25-168-000.

Applicants: Dusty Rose Wind, LLC.

Description: Dusty Rose Wind, LLC submits Notice of Self-Certification of Exempt Wholesale Generator Status.

Filed Date: 2/25/25.

Accession Number: 20250225-5066.

Comment Date: 5 p.m. ET 3/18/25.

Docket Numbers: EG25-169-000.

Applicants: Hart Wind Project, LLC.

Description: Hart Wind Project, LLC submits Notice of Self-Certification of Exempt Wholesale Generator Status.

Filed Date: 2/25/25.

Accession Number: 20250225-5115.

Comment Date: 5 p.m. ET 3/18/25.

Docket Numbers: EG25-170-000.

Applicants: CPV Rogue's Wind, LLC.

Description: CPV Rogue's Wind, LLC submits Notice of Self-Certification of Exempt Wholesale Generator Status.

Filed Date: 2/25/25.

Accession Number: 20250225-5162.

Comment Date: 5 p.m. ET 3/18/25.

Take notice that the Commission received the following Complaints and Compliance filings in EL Dockets:

Docket Numbers: EL25-57-000.

Applicants: Pluvia LLC.

Description: Petition for Declaratory Order of Pluvia LLC.

Filed Date: 2/10/25.

Accession Number: 20250210-5156.

Comment Date: 5 p.m. ET 3/3/25.

Take notice that the Commission received the following electric rate filings:

Docket Numbers: ER20-1604-003.

Applicants: EF Oxnard LLC.

Description: Notice of Change in Status of EF Oxnard LLC.

Filed Date: 2/24/25.

Accession Number: 20250224-5200.

Comment Date: 5 p.m. ET 3/17/25.

Docket Numbers: ER25-1115-000.

Applicants: Purge Energy LLC.

Description: Notice of Cancellation of Market Based Rate Tariff of Purge Energy LLC.

Filed Date: 1/29/25.

Accession Number: 20250129-5266.

Comment Date: 5 p.m. ET 3/11/25.

Docket Numbers: ER25-1389-000.

Applicants: Cascade Market Solutions, Inc.

Description: Initial Rate Filing: Market-Based Rate Application to be effective 4/26/2025.

Filed Date: 2/24/25.

Accession Number: 20250224-5176.

Comment Date: 5 p.m. ET 3/17/25.

Docket Numbers: ER25-1390-000.

Applicants: PJM Interconnection, L.L.C.

Description: § 205(d) Rate Filing: Original GIA, Service Agreement No. 7560; AF2-413 to be effective 1/24/2025.

Filed Date: 2/24/25.

Accession Number: 20250224-5178.

Comment Date: 5 p.m. ET 3/17/25.

Docket Numbers: ER25-1391-000.

Applicants: PJM Interconnection, L.L.C.

Description: § 205(d) Rate Filing: Original CSA, Service Agreement No. 7561; AF2-413 to be effective 1/28/2025.

Filed Date: 2/24/25.

Accession Number: 20250224-5188.

Comment Date: 5 p.m. ET 3/17/25.

Docket Numbers: ER25-1392-000.

Applicants: East Kentucky Power Cooperative, Inc.

Description: § 205(d) Rate Filing: EKPC submits revisions to Formula Rate, OATT Attachment H-24A to be effective 6/1/2025.

Filed Date: 2/25/25.

Accession Number: 20250225-5020.

Comment Date: 5 p.m. ET 3/18/25.

Docket Numbers: ER25-1393-000.

Applicants: Versant Power.

Description: Compliance filing: Order No. 904 Compliance Filing for Versant Power, MPD to be effective 6/1/2025.

Filed Date: 2/25/25.

Accession Number: 20250225-5061.

Comment Date: 5 p.m. ET 3/18/25.

Docket Numbers: ER25-1394-000.

Applicants: Midcontinent Independent System Operator, Inc.

Description: § 205(d) Rate Filing: 2025-02-25_SA 3735 Termination of METC-Jackson County Solar E&P (J1310) to be effective 2/26/2025.

Filed Date: 2/25/25.

Accession Number: 20250225-5085.

Comment Date: 5 p.m. ET 3/18/25.

Docket Numbers: ER25-1395-000.

Applicants: NorthWestern Corporation.

Description: § 205(d) Rate Filing: RS337—LGIA with Colstrip Trans. Owners and Jane Wind to be effective 2/26/2025.

Filed Date: 2/25/25.

Accession Number: 20250225-5087.

Comment Date: 5 p.m. ET 3/18/25.

Docket Numbers: ER25-1396-000.

Applicants: Midcontinent Independent System Operator, Inc.

Description: § 205(d) Rate Filing: 2025-02-25_SA 3866 Termination of ATC-Whitetail E&P (J1374) to be effective 2/26/2025.

Filed Date: 2/25/25.

Accession Number: 20250225-5089.

Comment Date: 5 p.m. ET 3/18/25.

Docket Numbers: ER25-1397-000.

Applicants: Midcontinent Independent System Operator, Inc.

Description: § 205(d) Rate Filing: 2025-02-25_SA 3649 Termination of ATXI-Northeast Missouri Wind E&P (J1025) to be effective 2/26/2025.

Filed Date: 2/25/25.

Accession Number: 20250225-5092.

Comment Date: 5 p.m. ET 3/18/25.

Docket Numbers: ER25-1398-000.

Applicants: NorthWestern Corporation.

Description: § 205(d) Rate Filing: RS338—LGIA with Colstrip Trans. Owners and Jane Wind to be effective 2/26/2025.

Filed Date: 2/25/25.

Accession Number: 20250225-5095.

Comment Date: 5 p.m. ET 3/18/25.

Docket Numbers: ER25-1399-000.

Applicants: Birdsboro Power LLC, Strategic PPAV, LLC.

Description: Joint Request for a one-time, limited waiver of the 90-day prior notice requirement set forth in Schedule 2 to the PJM Interconnection, L.L.C. Open Access Transmission Tariff of Birdsboro Power LLC, et. al.

Filed Date: 2/25/25.

Accession Number: 20250225-5118.

Comment Date: 5 p.m. ET 3/18/25.

Docket Numbers: ER25-1400-000.

Applicants: Alpaca Energy LLC.

Description: § 205(d) Rate Filing: Market-Based Rate Tariff Revisions to be effective 2/26/2025.

Filed Date: 2/25/25.

Accession Number: 20250225-5121.

Comment Date: 5 p.m. ET 3/18/25.

Docket Numbers: ER25-1401-000.

Applicants: Beaver Dam Energy LLC.

Description: § 205(d) Rate Filing: Market-Based Rate Tariff Revisions to be effective 2/26/2025.

Filed Date: 2/25/25.

Accession Number: 20250225-5122.

Comment Date: 5 p.m. ET 3/18/25.

Docket Numbers: ER25-1402-000.

Applicants: Milan Energy LLC.

Description: § 205(d) Rate Filing: Market-Based Rate Tariff Revisions to be effective 2/26/2025.

Filed Date: 2/25/25.

Accession Number: 20250225-5125.

Comment Date: 5 p.m. ET 3/18/25.

Docket Numbers: ER25-1403-000.

Applicants: Oxbow Creek Energy LLC.

Description: § 205(d) Rate Filing: Market-Based Rate Tariff Revisions to be effective 2/26/2025.

Filed Date: 2/25/25.

Accession Number: 20250225-5127.

Comment Date: 5 p.m. ET 3/18/25.

Docket Numbers: ER25-1404-000.

Applicants: Roundtop Energy LLC.

Description: § 205(d) Rate Filing: Market-Based Rate Tariff Revisions to be effective 2/26/2025.

Filed Date: 2/25/25.

Accession Number: 20250225-5129.

Comment Date: 5 p.m. ET 3/18/25.

Docket Numbers: ER25-1405-000.

Applicants: Wolf Run Energy LLC.

Description: § 205(d) Rate Filing: Market-Based Rate Tariff Revisions to be effective 2/26/2025.

Filed Date: 2/25/25.

Accession Number: 20250225-5131.

Comment Date: 5 p.m. ET 3/18/25.

Docket Numbers: ER25-1406-000.

Applicants: CSOLAR IV West, LLC.

Description: § 205(d) Rate Filing: Market-Based Rate Tariff Revisions to be effective 2/26/2025.

Filed Date: 2/25/25.

Accession Number: 20250225-5145.

Comment Date: 5 p.m. ET 3/18/25.

Docket Numbers: ER25-1407-000.

Applicants: CPV Rogue's Wind, LLC.

Description: § 205(d) Rate Filing: Application for Market-Based Rate Authority to be effective 4/27/2025.

Filed Date: 2/25/25.

Accession Number: 20250225-5158.

Comment Date: 5 p.m. ET 3/18/25.

Docket Numbers: ER25-1408-000.

Applicants: DTE Electric Company.

Description: § 205(d) Rate Filing: Wholesale Distribution Service Rate Schedule between DTE Electric and Sebewaing to be effective 2/25/2025.

Filed Date: 2/25/25.

Accession Number: 20250225-5178.

Comment Date: 5 p.m. ET 3/18/25.

Take notice that the Commission received the following electric reliability filings:

Docket Numbers: RR25-2-000.

Applicants: North American Electric Reliability Corporation, Northeast Power Coordinating Council, Inc.

Description: Joint Petition for approval of Amendments to the Bylaws of Northeast Power Coordinating Council, Inc.

Filed Date: 2/25/25.

Accession Number: 20250225-5124.

Comment Date: 5 p.m. ET 3/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 25, 2025.
Carlos D. Clay,
Deputy Secretary.

[FR Doc. 2025-03373 Filed 2-28-25; 8:45 am]

BILLING CODE 6717-01-P